ENVIRONMENTAL PROTECTION AGENCY

40 CFR Part 52

[EPA-R05-OAR-2009-0964; FRL-9129-9]

Approval and Promulgation of Air Quality Implementation Plans; Illinois; NOX Budget Trading Program; Correction

AGENCY: Environmental Protection Agency (EPA).

ACTION: Final rule; correction.

SUMMARY: This document contains technical corrections to the final regulations, which were published in the Federal Register on Monday, March 1, 2010. The regulations related to terminating the provisions of the Nitrogen Oxides (NOX) Budget Trading Program that apply to electric generating units (EGUs) in Illinois.

DATES: Effective Date: This correction is effective on April 30, 2010.

FOR FURTHER INFORMATION CONTACT: John Summerhays, Environmental Scientist, Criteria Pollutant Section, Air Programs Branch (AR-18J), Environmental Protection Agency, Region 5, 77 West Jackson Boulevard, Chicago, Illinois 60604, (312) 886-6067, summerhays.john@epa.gov.

SUPPLEMENTARY INFORMATION: This document provides a technical correction to the direct final regulation published at 75 FR 9103, March 1, 2010. The final regulation that is the subject of this correction is effective on April 30, 2010, and approves the sunset of 35 Illinois Administrative Code (IAC) 217 Subpart W as incorporated into 40 CFR Part 52. The revision to the Illinois State Implementation Plan terminates the provisions of the NOX Budget Trading Program that apply to EGUs.

Correction

As published, the final regulations contained an error which may prove to be misleading and needs to be clarified. The direct final rule in 75 FR 9103 inadvertently stated that 40 CFR 52.740 was being amended, but the actual section being amended is 40 CFR 52.720.

Accordingly, the following correction is made to the final rule published March 1, 2010, (75 FR 9103).

1. On page 9105, in the third column, amendatory instruction 2 is corrected to read as follows:

“2. Section 52.720 is amended by adding paragraph (c)(185), to read as follows:”

Dated: March 12, 2010.
Tinka G. Hyde,
Acting Regional Administrator, Region 5.

[FR Doc. 2010-6474 Filed 3-23-10; 8:45 am]

BILLING CODE 6560-50-P